INTERNATIONAL TRADE COMMISSION

[Investigation No. 337-TA-866]

Certain Wireless Communications Equipment and Articles Therein; Commission Determination Not To Review an Initial Determination Granting a Joint Motion To Terminate the Investigation Based on a Settlement Agreement; Termination of Investigation

AGENCY: U.S. International Trade Commission.

ACTION: Notice.

SUMMARY: Notice is hereby given that the U.S. International Trade Commission has determined not to review the presiding administrative law judge's (“ALJ”) initial determination (“ID”) (Order No. 62) granting a joint motion to terminate the above-referenced investigation based on a settlement agreement. The investigation is terminated.

FOR FURTHER INFORMATION CONTACT: Megan M. Valentine, Office of the General Counsel, U.S. International Trade Commission, 500 E Street SW., Washington, DC 20436, telephone (202) 708-2301. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 31, 2013, based on a Complaint filed by Samsung Electronics Co., Ltd. of Seoul, Republic of Korea, and Samsung Telecommunications America, LLC of Richardson, Texas (collectively “Samsung”). 78 FR 6837-38 (Jan. 31, 2013). The complaint alleges violations of section 337 of the Tariff Act of 1930, as amended, 19 U.S.C. 1337, in the importation into the United States, the sale for importation, and the sale within the United States after importation of certain wireless communications equipment and articles therein by reason of infringement of certain claims of U.S. Patent Nos. 7,782,749; 8,165,081; 8,208,438 (“the '438 patent”); 8,228,827; 6,617,929; 6,767,813 (“the '813 patent”); and 6,865,682. The complaint further alleges the existence of a domestic industry. The Commission's notice of investigation named as respondents Ericsson Inc. of Plano, Texas and Telefonaktiebolaget LM Ericsson of Stockholm, Sweden (collectively, “Ericsson”). The Office of Unfair Import Investigations was also named as a party. The Commission previously terminated the investigation with respect to the '813 patent and the '438 patent. Notice (July 12, 2013); Notice (Oct. 25, 2013).

On January 27, 2014, Samsung and Ericsson filed a joint motion to terminate the investigation in its entirety based upon a settlement agreement. On January 29, 2014, Samsung and Ericsson filed a supplement to their motion, attaching a revised public version of the Agreement. On January 30, 2014, the Commission investigative attorney (“IA”) filed a response in support of the motion.

On February 10, 2014, the ALJ issued the subject ID, granting the joint motion to terminate the investigation in its entirety. The ALJ found that the joint motion complied with the requirements of section 210.21(b)(1) of the Commission's Rules of Practice and Procedure (19 CFR 210.21(b)(1)) and that there are no extraordinary circumstances that would prevent the requested terminations. The ALJ agreed with movants and the IA that granting the motion would not be contrary to the public interest. No petitions for review were filed.

The Commission has determined not to review the ID.

The authority for the Commission's determination is contained in section 337 of the Tariff Act of 1930, as amended (19 U.S.C. 1337), and in part 210 of the Commission's Rules of Practice and Procedure (19 CFR Part 210).

By order of the Commission.
Issued: March 11, 2014.
Lisa R. Barton,
Acting Secretary to the Commission.

[FR Doc. 2014-05634 Filed 3-13-14; 8:45 am]

BILLING CODE 7020-02-P